FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
004666NF | Magnum Freight Corporation, 6701 NW 7th Street, Suite 165, Miami, FL 33126 | January 17, 2005.
016236N | Target Shipping Co., Inc., 123 North Union Avenue, Suite 101, Cranford, NJ 07016 | March 5, 2005.

Sandra L. Kusumoto,
Director, Bureau of Certification and Licensing.

[FR Doc. 05-7423 Filed 4-12-05; 8:45 am]

BILLING CODE 6730-01-P